ENVIRONMENTAL PROTECTION AGENCY

[ER-FRL-9026-6]

Environmental Impact Statements; Notice of Availability

Responsible Agency: Office of Federal Activities, General Information (202) 564-7146 or http://www2.epa.gov/nepa.

Weekly receipt of Environmental Impact Statements (EISs)

Filed 04/11/2016 Through 04/15/2016

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20160080, Draft, BOEM, LA, Gulf of Mexico OCS Oil and Gas Lease Sales: 2017-2022, Gulf of Mexico Lease Sales 249, 250, 251, 252, 253, 254, 256, 257, 259, and 261, Comment Period Ends: 06/06/2016, Contact: Gary Goeke 504-736-3233.

EIS No. 20160081, Final, USFS, CA, Elk Late-Successional Reserve Enhancement Project, Review Period Ends: 06/06/2016, Contact: Cindy Diaz 530-926-4511.

Amended Notices

EIS No. 20160055, Draft, USFS, MT, Lookout Pass Ski Area Expansion, Comment Period Ends: 05/10/2016, Contact: Kerry Arneson 208-769-3021, Revision to FR Notice Published 03/11/2016; Extending Comment Period from 04/25/2016 to 05/10/2016.

Dated: April 19, 2016.
Dawn Roberts,
Management Analyst, NEPA Compliance Division, Office of Federal Activities.

[FR Doc. 2016-09409 Filed 4-21-16; 8:45 am]

BILLING CODE 6560-50-P